DEPARTMENT OF TRANSPORTATION

Federal Aviation Administration

14 CFR Part 39

[Docket No. FAA-2007-27565; Directorate Identifier 2006-NM-215-AD]

RIN 2120-AA64

Airworthiness Directives; Airbus Model A330 and A340-200 Airplanes

AGENCY: Federal Aviation Administration (FAA), Department of Transportation (DOT).

ACTION: Notice of proposed rulemaking (NPRM).

SUMMARY: The FAA proposes to supersede an existing airworthiness directive (AD) that applies to certain Airbus Model A330-200, A330-300, A340-200, and A340-300 series airplanes; and Model A340-541 and -642 airplanes. The existing AD currently requires repetitively resetting the display units (DUs) for the electronic instrument system (EIS), either by switching them off and back on again or by performing a complete electrical shutdown of the airplane. This proposed AD would require installing new software, which would end the actions required by the existing AD. This proposed AD also would add additional airplanes that may be placed on the U.S. Register in the future. This proposed AD results from an incident in which all of the DUs for the EIS went blank simultaneously during flight. We are proposing this AD to prevent automatic reset of the DUs for the EIS during flight and consequent loss of data from the DUs, which could reduce the ability of the flightcrew to control the airplane during adverse flight conditions.

DATES: We must receive comments on this proposed AD by April 16, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Backman, Aerospace Engineer, International Branch, ANM-116, Transport Airplane Directorate, FAA, 1601 Lind Avenue, SW., Renton, Washington 98057-3356; telephone (425) 227-2797; fax (425) 227-1149.

SUPPLEMENTARY INFORMATION:

Comments Invited

We invite you to submit any relevant written data, views, or arguments regarding this proposed AD. Send your comments to an address listed in the ADDRESSES section. Include the docket number “Docket No. FAA-2007-27565; Directorate Identifier 2006-NM-215-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On August 18, 2005, we issued AD 2005-17-18, amendment 39-14239 (70 FR 50166, August 26, 2005), for certain Airbus Model A330-200, A330-300, A340-200, and A340-300 series airplanes; and Model A340-541 and -642 airplanes. That AD requires repetitively resetting the display units (DUs) for the electronic instrument system (EIS), either by switching them off and back on again or by performing a complete electrical shutdown of the airplane. That AD resulted from an incident in which all of the DUs for the EIS went blank simultaneously during flight. We issued that AD to prevent automatic reset of the DUs for the EIS during flight and consequent loss of data from the DUs, which could reduce the ability of the flightcrew to control the airplane during adverse flight conditions.

Actions Since Existing AD Was Issued

After the issuance of AD 2005-17-18, the Direction Générale de l'Aviation Civile (DGAC), which is the airworthiness authority for France, issued French emergency airworthiness directive UF-2005-166, dated September 23, 2005, which was superseded by F-2005-166 R1, dated October 26, 2005. Those French airworthiness directives cancelled French airworthiness directive UF-2005-150, dated August 10, 2005 (referred to in AD 2005-17-18), and required that the resets be done only by the aircraft flightcrew in accordance with Airbus A330 Airplane Flight Manual (AFM) Temporary Revision (TR) 4.03.00/26 and A340 AFM TR 4.03.00/37, both dated October 11, 2005; as applicable. We determined at that time that further rulemaking was not necessary, because AD 2005-17-18 adequately addresses the unsafe condition by requiring the resets to be done either by certificated maintenance personnel or by the flightcrew. In addition, we approved TRs 4.03.00/26 and 4.03.00/37 as alternative methods of compliance (AMOC) to the requirements of paragraph (f) of AD 2005-17-18 (addressed in paragraph (j)(3) of this proposed AD).

In the preamble to AD 2005-17-18, we specified that the actions required by that AD were considered “interim action” and that the manufacturer was developing a modification to address the unsafe condition. We indicated that we may consider further rulemaking once the modification was developed, approved, and available. The manufacturer now has developed such a modification, and we now have determined that further rulemaking action is indeed necessary; this proposed AD follows from that determination.

Relevant Service Information

Airbus has issued the primary service bulletins in the following table:

Primary Service Bulletins
Airbus Service Bulletin— | For Model—
A330-31-3087, dated June 26, 2006 | A330-201, -202, -203, -223, -243, -301, -302, -303, -321, -322, -323, -341, -342, and -343 airplanes.
A340-31-4100, dated June 26, 2006 | A340-211, -212, -213, -311, -312, and -313 airplanes.
A340-31-5021, dated June 26, 2006 | A340-541 and -642 airplanes.

These primary service bulletins describe procedures for installing electronic instrument system 2 (EIS2) software standard L6-1, which would end the actions required by AD 2005-17-18.

Airbus also has issued the service bulletins in the following table:

Additional Service Bulletins
Airbus Service Bulletin— | Describes procedures for— | Which must be done prior to the actions specified in Airbus Service Bulletin—
A330-31-3069, Revision 01, dated December 27, 2004 | Installing EIS2 software standard L5 | A330-31-3087, dated June 26, 2006.
A330-31-3056, Revision 02, dated March 24, 2003 | Installing Thales display system standard L4 | A330-31-3087, dated June 26, 2006.
A340-31-4087, Revision 01, dated December 27, 2004 | Installing EIS2 software standard L5 | A340-31-4100, dated June 26, 2006.
A340-31-5012, Revision 01, dated December 27, 2004 | Installing EIS2 software standard L5 | A340-31-5021, dated June 26, 2006.

Accomplishing the actions specified in the service information is intended to adequately address the unsafe condition. The European Aviation Safety Agency (EASA), which is the Technical Agent for the Member States of the European Union, mandated the service information and issued EASA airworthiness directive 2006-0196, dated July 10, 2006 (which cancels French airworthiness directive F-2005-166 R1), to ensure the continued airworthiness of these airplanes in the European Union.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the EASA has kept the FAA informed of the situation described above. We have examined the EASA's findings, evaluated all pertinent information, and determined that AD action is necessary for airplanes of this type design that are certificated for operation in the United States.

This proposed AD would supersede AD 2005-17-18 and would retain the requirements of the existing AD. This proposed AD would also require accomplishing the actions specified in service bulletins described previously, which would end the repetitive actions required by AD 2005-17-18. This proposed AD also would add additional airplanes that are subject to the identified unsafe condition of this proposed AD and that may be placed on the U.S. Register in the future.

Difference Between the EASA Airworthiness Directive and This Proposed AD

The applicability of EASA airworthiness directive 2006-0196 excludes certain airplanes on which Airbus Service Bulletin A330-31-3087, A340-31-4100, or A340-31-5021 has been done in service. However, we have not excluded those airplanes in the applicability of this proposed AD; rather, this proposed AD includes a requirement to accomplish the actions specified in the original issue of those service bulletins. This requirement would ensure that the actions specified in the service bulletins and required by this proposed AD are accomplished on all affected airplanes. Operators must continue to operate the airplane in the configuration required by this proposed AD unless an AMOC is approved.

Costs of Compliance

The following table provides the estimated costs for U.S. operators to comply with this proposed AD. The average labor rate per hour is $80.

Estimated Costs
Action | Work hour(s) | Parts | Cost per airplane | Number of U.S.-registered airplanes | Fleet cost
Resetting the DUs (required by AD 2005-17-18) | 1 | None | $80, per reset | 27 | $2,160, per reset.
Installation of new software (new proposed action) | 3 | The manufacturer states that it will supply required parts to the operators at no cost | $240 | 27 | $6,480.
Additional requirement (new proposed action) | Between 1 and 5 depending on the airplane configuration | The manufacturer states that it will supply required parts to the operators at no cost | Between $80 and $400, depending on the airplane configuration | 27 | Between $2,160 and $10,800, depending on the configuration of the fleet.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14239 (70 FR 50166, August 26, 2005) and adding the following new airworthiness directive (AD):

Airbus: Docket No. FAA-2007-27565; Directorate Identifier 2006-NM-215-AD.

Comments Due Date

(a) The FAA must receive comments on this AD action by April 16, 2007.

Affected ADs

(b) This AD supersedes AD 2005-17-18.

Applicability

(c) This AD applies to Airbus Model A330 and A340 airplanes; certificated in any category; on which one of the Airbus Electronic Instrument System 2 (EIS2) software versions listed in Table 1 of this AD is installed; excluding those airplanes on which Airbus Modification 53063 has been done in production.

Table 1.—Applicability
EIS2 software version | Installed by this Airbus modification in production | Or installed by one of these Airbus service bulletins in service
L4-1 | 51153 | A330-31-3056, A330-31-3057, or A340-31-5001.
L5 | 51974 | A330-31-3056, A330-31-3069, A340-31-4087, or A340-31-5012.

Unsafe Condition

(d) This AD results from an incident in which all of the display units (DUs) for the EIS went blank simultaneously during flight. We are issuing this AD to prevent automatic reset of the DUs for the EIS during flight and consequent loss of data from the DUs, which could reduce the ability of the flightcrew to control the airplane during adverse flight conditions.

Compliance

(e) You are responsible for having the actions required by this AD performed within the compliance times specified, unless the actions have already been done.

Requirements of AD 2005-17-18

Resetting the DUs for the EIS

(f) For Model A330-201, -202, -203, -223, -243, -301, -321, -322, -323, -341, -342, and -343 airplanes; and Model A340-211, -212, -213, -311, -312, -313, -541, and -642 airplanes: Within 2 days after September 12, 2005 (the effective date of AD 2005-17-18), or within 4 days after the last reset of the DUs for the EIS or complete electrical shutdown of the airplane, whichever is first: Reset the DUs for the EIS by doing the actions in either paragraph (f)(1) or (f)(2) of this AD. Thereafter, do the actions in paragraph (f)(1) or (f)(2) of this AD at intervals not to exceed 4 days.

(1) Switch off each DU for the EIS, wait 5 seconds or longer, and switch the DU back on again, in accordance with Airbus All Operator Telex (AOT) A330-31A3092 (for Model A330-201, -202, -203, -223, -243, -301, -321, -322, -323, -341, -342, and -343 airplanes), A340-31A4102 (for A340-211, -212, -213, -311, -312, and -313 airplanes), or A340-31A5023 (for Model A340-541 and -642 airplanes), all dated August 1, 2005, as applicable. This action may be performed by the flight deck crew or by certificated maintenance personnel.

(2) Perform a complete electrical shutdown of the airplane.

New Requirements of This AD

Installation of New Software

(g) For airplanes other than those identified in paragraph (f) of this AD: Within 2 days after the effective date of this AD, or within 4 days after the last reset of the DUs for the EIS or complete electrical shutdown of the airplane, whichever is first, do the reset specified in paragraph (f) of this AD and repeat thereafter at intervals not to exceed 4 days, until the installation required by paragraph (h) of this AD has been done.

(h) For all airplanes: Within 7 months after the effective date of this AD, install EIS2 software standard L6-1 in accordance with the applicable service bulletin identified in Table 2 of this AD. Accomplishing the installation ends the actions required by paragraphs (f) and (g) of this AD.

Table 2.—Service Bulletins for Installation of New Software
Airbus service bulletin— | For model—
(1) A330-31-3087, dated June 26, 2006 | A330-201, -202, -203, -223, -243, -301, -302, -303, -321, -322, -323, -341, -342, and -343 airplanes.
(2) A340-31-4100, dated June 26, 2006 | A340-211, -212, -213, -311, -312, and -313 airplanes.
(3) A340-31-5021, dated June 26, 2006 | A340-541 and -642 airplanes.

Additional Requirements

(i) Prior to accomplishing the requirements specified in paragraph (g) of this AD, do the applicable action(s) specified in Table 3 of this AD.

Table 3.—Additional Requirements
For airplanes identified in— | Install— | In accordance with Airbus service bulletin—
(1) Paragraph (h)(1) of this AD | (i) EIS2 software standard L5 | A330-31-3069, Revision 01, dated December 27, 2004.
| (ii) Thales display system standard L4 | A330-31-3056, Revision 02, dated March 24, 2003.
(2) Paragraph (h)(2) of this AD | EIS2 software standard L5 | A340-31-4087, Revision 01, dated December 27, 2004.
(3) Paragraph (h)(3) of this AD | EIS2 software standard L5 | A340-31-5012, Revision 01, dated December 27, 2004.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2005-17-18 are approved as AMOCs for the corresponding provisions of paragraph (f) of this AD.

Related Information

(k) European Aviation Safety Agency airworthiness directive 2006-0196, dated July 10, 2006, also addresses the subject of this AD.

Issued in Renton, Washington, on March 7, 2007.
Ali Bahrami,
Manager, Transport Airplane Directorate, Aircraft Certification Service.

[FR Doc. E7-4741 Filed 3-14-07; 8:45 am]

BILLING CODE 4910-13-P